PEACE CORPS

Privacy Act of 1974; Report of an Altered System of Records

ACTION: Notice to amend a system of records.

SUMMARY: The Peace Corps is revising two of its existing systems of records notices subject to the Privacy Act of 1974, (5 U.S.C. 552a), PC-17—Volunteer Applicant and Service Records System, and PC-18—Former Peace Corps Volunteers Database. The first revision adds a specific routine use to both PC-17 and PC-18. This specific routine use indicates that the Peace Corps may share Peace Corps Volunteer and Returned Peace Corps Volunteer contact information with educational institutions with which the Peace Corps has a Fellows/Masters International agreement which requires access to such information. The second revision adds another specific routine use to both PC-17 and PC-18 indicating that the Peace Corps may share Peace Corps Volunteer and Returned Peace Corps Volunteer information with Returned Peace Corps Volunteer organizations that are furthering the Peace Corps' recruiting and third goal activities. The third revision indicates that all of the Peace Corps' General Routine Uses apply to PC-18. The fourth revision updates the System Manager information for PC-17.

DATES: This proposed action will be effective without further notice October 14, 2010 without further action, unless adverse comment is received by Peace Corps by September 29, 2010.

ADDRESSES: You may submit comments by e-mail to pcfr@peacecorps.gov. Include Privacy Act System of Records in the subject line of the message. You may also submit comments by mail to Denora Miller, Privacy Act Officer, Peace Corps, 1111 20th Street, NW., Washington, DC 20526. Contact Denora Miller for copies of comments.

FOR FURTHER INFORMATION CONTACT: Denora Miller, Privacy Act Officer, 202-692-1236, pcfr@peacecorps.gov.

SUPPLEMENTARY INFORMATION: The Privacy Act, 5 U.S.C. 552a, provides that the public will be given a 30-day period in which to comment on a revised routine use. The Office of Management and Budget (OMB), which has oversight responsibility under the Act, requires a 40-day period in which to review the revision. In accordance with 5 U.S.C. 552a, Peace Corps has provided a report on this system to OMB and the Congress. Peace Corps is publishing changes which affect the public's right or need to know.

System name:

PC-17—Peace Corps, Volunteer Applicant and Service Records System.

Changes:

* * * * *

Routine Uses of Records Maintained in the System, Including Categories of Users and the Purposes of such Uses:

After specific Routine Use (k)(4) add specific Routine Use (l) stating, “To any educational institutions with which the Peace Corps has a Fellows/USA or Masters International agreement which requires access to Volunteer or Returned Peace Corps Volunteer contact information in order to meet the terms of the agreement.”

After specific Routine Use (l) add specific Routine Use (m) stating “To Returned Peace Corps Volunteer organizations furthering the Peace Corps' recruiting or third goal activities. The information released will be limited to contact information.”

* * * * *

System Manager(s) and Address:

Delete current entry and replace with the following: “As the record flows from one state to another, or if a record is established for a specific purpose, the system manager is the agency official responsible for that particular function. People unsure about whom to contact, may contact the Peace Corps' FOIA/Privacy Officer at 1111 20th St., NW., Washington, DC 20526.

(1) The following system managers are located at 1111 20th St., NW., Washington, DC 20526: Director of Placement and Staging; Chief of Health Benefits and Analysis Division; Chief of Volunteer and Staff Payroll Services Branch; Director, Management Information and Assessment Division; Supervisor, Medical Records Manager in the Division of Volunteer Support;

(2) The following system managers can be contacted at the overseas post of assignment: Peace Corps Country Directors Overseas; Peace Corps Medical Officers Overseas.

System name:

PC-18—Peace Corps, Former Peace Corps Volunteers Database.

Changes:

* * * * *

Routine Uses of records maintained in the system:

Amend the statement of general routine uses to indicate that all of the Peace Corps' General Routine Uses apply to this system; and state that the following specific routines use applies to this system:

“The contents of these records may be disclosed:

“(a) To any educational institutions with which the Peace Corps has a Fellows/USA or Masters International agreement which requires access to Volunteer or Returned Peace Corps Volunteer contact information in order to meet the terms of the agreement.

“(b) To Returned Peace Corps Volunteer organizations furthering the Peace Corps' recruiting or Third Goal activities. The information released will be limited to contact information.”

This notice is issued in Washington, DC, on August 26, 2010.
Earl W. Yates,
Associate Director, Management.

[FR Doc. 2010-21493 Filed 8-27-10; 8:45 am]

BILLING CODE 6051-01-P